DEPARTMENT OF COMMERCE

National Oceanic and Atmospheric Administration

DEPARTMENT OF THE INTERIOR

U.S. Fish and Wildlife Service

[I.D. 080306C]

Marine Mammals and Endangered Species; National Marine Fisheries Service File No. 493-1848; U.S. Fish and Wildlife Service File No. MA130062

AGENCIES: National Marine Fisheries Service (NMFS), National Oceanic and Atmospheric Administration (NOAA), Commerce; U.S. Fish and Wildlife Service (FWS), Interior.

ACTION: Notice; receipt of application.

SUMMARY: Notice is hereby given that the Darlene R. Ketten, Ph.D., Woods Hole Oceanographic Institution, Biology Department, MRF- Room 233, MS 50, Woods Hole, MA 02543 has applied in due form for a permit from NMFS and FWS to take parts from species of marine mammals for purposes of scientific research.

DATES: Written or telefaxed comments must be received on or before September 27, 2006.

ADDRESSES: The application request and related documents are available for review upon written request or by appointment in the following office(s):

Permits, Conservation and Education Division, Office of Protected Resources, NMFS, 1315 East-West Highway, Room 13705, Silver Spring, MD 20910; phone (301) 713-2289; fax (301) 427-2521;

Northeast Region, NMFS, One Blackburn Drive, Gloucester, MA 01930-2298; phone (978) 281-9200; fax (978) 281-9371; and

U.S. Fish and Wildlife Service, Division of Management Authority, 4401 North Fairfax Drive, Room 700, Arlington, VA 22203; phone (800) 358-2104; fax (703) 358-2281.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 493-1848/MA130062.

FOR FURTHER INFORMATION CONTACT: Jennifer Skidmore or Kate Swails, Office of Protected Resources, NMFS, (301) 713-2289.

SUPPLEMENTARY INFORMATION: The subject permit is requested under the authority of the Marine Mammal Protection Act of 1972, as amended (MMPA; 16 U.S.C. 1361 et seq.), the regulations governing the taking and importing of marine mammals (50 CFR parts 18 and 216), the Fur Seal Act of 1966, as amended (16 U.S.C. 1151 et seq.), the Endangered Species Act of 1973, as amended (ESA; 16 U.S.C. 1531 et seq.), and the regulations governing the taking, importing, and exporting of endangered and threatened species (50 CFR parts 17 and 222-226).

Dr. Ketten is requesting a permit for the possession and worldwide import/export of marine mammal and endangered species parts from the orders of Cetacea (dolphins, porpoises and whales), Pinnipedia (seals, sea lions and walrus), Carnivora (sea otter, Enhydra lutris, and polar bear, Ursus maritimus) and Sirenia (dugongs and manatees). Whole carcasses, heads, or temporal bones (ears) are requested from stranded animals that die prior to beaching, are euthanized upon stranding, or which die in captivity. No animals would be taken or killed for the purpose of this research.

The research proposed by Dr. Ketten utilizes three-dimensional analyses of aquatic mammals ears to generate estimates of auditory sensitivity, seeking to determine how structural elements of these ears contribute to underwater hearing. Mathematical models and three-dimensional reconstructions of head and ear anatomy are produced from whole carcasses, heads, or temporal bones from animals that strand and die or die in captivity. The tissues are scanned by CT (Computerized Tomography) and MRI (Magnetic Resonance Imaging) and the ears are decalcified, sectioned, digitized, and reconstructed. Measurements from these reconstructions are used to calculate frequency distribution maps for each species examined. These inner ear models have provided the first evidence of acute infrasonic hearing in some species, new insights into how marine mammals achieve extreme infra and also ultrasonic hearing, and estimates of species specific hearing curves. A permit is requested for a period of 5 years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application to the Marine Mammal Commission and its Committee of Scientific Advisors.

Dated: August 22, 2006.
Charlie R. Chandler,
Chief, Branch of Permits, Division of Management Authority, U.S. Fish and Wildlife Service.

Dated: August 22, 2006.
P. Michael Payne,
Chief, Permits, Conservation and Education Division, Office of Protected Resources, National Marine Fisheries Service.

[FR Doc. 06-7196 Filed 8-25-06; 8:45 am]

BILLING CODE 3510-22-S